ELECTION ASSISTANCE COMMISSION

Sunshine Act Notice

AGENCY: United States Election Assistance Commission.

ACTION: Notice: Additional Item for Discussion at Meeting.

Date & Time: Tuesday, July 13, 2004 at 1 p.m.

Place: U.S. Election Assistance Commission, 1225 New York, Ave., NW., Suite 1100, Washington, DC 20005 (Metro Stop: Metro Center).

Status: This meeting will be open to the public.

SUMMARY: In addition to the items previously published June 29, 2004, the Commission will also receive an update on The Help America Vote College Program.

FOR FURTHER INFORMATION CONTACT: Bryan Whitener, Telephone: (202) 566-3100.

DeForest B. Soaries, Jr.,
Chairman, U.S. Election Assistance Commission.

[FR Doc. 04-15671 Filed 7-6-04; 3:26 pm]

BILLING CODE 6820-MP-M